DEPARTMENT OF JUSTICE

Drug Enforcement Administration

George Samuel Kouns, D.O.; Revocation of Registration

On April 28, 2000, the Deputy Assistant Administrator, Office of Diversion Control, Drug Enforcement Administration (DEA), issued an amended Order to Show Cause (OTSC) by certified mail to George Samuel Kouns, D.O., notifying him of an opportunity to show cause as to why the DEA should not revoke his DEA Certificate of Registration, AK8923496, pursuant to 21 U.S.C. 823(f) and 21 U.S.C. 824(a) (2), (3), and (4), on the grounds that Dr. Kouns is no longer authorized to handle controlled substances in Indiana, the State in which Dr. Kouns is currently registered with DEA. The amended OTSC also stated that Dr. Kouns' request to modify his registration address from Indiana to Alabama should be denied pursuant to 21 U.S.C. 823(f) and 21 U.S.C. 824(a)(4), because Dr. Kouns is not authorized to handle controlled substances in Alabama. The amended OTSC also alleged that Dr. Kouns' DEA registration should be revoked and his request for modification denied because on March 23, 1998, he was convicted of a felony relating to controlled substances in the Union County Circuit Court of the State of Indiana. The amended OTSC also notified Dr. Kouns that should not request for hearing be filed within 30 days, his right to a hearing would be deemed waived.

On May 2, 2000, the amended OTSC was sent to Dr. Kouns at the address at which he sought to have his DEA registration modified, and also to his last known address in Alabama. Subsequently, DEA received a postal receipt dated May 26, 2000, and signed on behalf of Dr. Kouns, indicating the amended OTSC was received.

DEA has received no request for a hearing nor other response from Dr. Kouns nor anyone purporting to represent him in this matter. Therefore, the Administrator, finding that (1) 30 days having passed since the receipt of the Order to Show Cause, and (2) no request for a hearing having been received, concludes that Dr. Kouns is deemed to have waived his right to a hearing. Following a complete review of the investigative file in this matter, the Administrator now enters his final order without a hearing pursuant to 21 CFR 1301.43 9d) and (e), and 1301.46.

The Administrator finds as follows. Dr. Kouns currently possesses DEA Certificate of Registration AK8923496, issued to him in Indiana. On or about March 23, 1998, pursuant to a plea agreement Dr. Kouns pleaded guilty to 15 felony counts of Issuing Unlawful Prescriptions, including controlled substance prescriptions. Also pursuant to the plea agreement, Dr. Kouns agreed to (1) pay a $5,000 fine and (2) to not practice medicine in Indiana, to surrender any licensure to practice medicine in Indiana, and not to reapply for medical licensure in Indiana. By Order dated May 12, 1998, the Union County Circuit Court sentenced Dr. Kouns to 15 consecutive years in prison, which term was suspended, and placed Dr. Kouns on probation for 15 years.

Based on the felony convictions, the Indiana Medical Licensing Board revoked Dr. Kouns license to practice medicine in Indiana by Order dated August 31, 1998. On or about September 18, 1998, the Controlled Substance Advisory Committee and the Indiana Board of Pharmacy issued a Final Order denying Dr. Kouns' application for a controlled substances registration. There is no evidence in the investigative file indicating that Dr. Kouns has regained authority to handle controlled substances in the State of Indiana.

The Administrator further finds that on or about January 14, 1999, the Alabama Medical Licensure Commission issued an Order revoking Dr. Kouns' license to practice medicine in the State of Alabama based upon (1) Dr. Kouns' controlled substances-related felonies in the State of Indiana, and (2) the subsequent disciplinary action taken against Dr. Kouns by the Indiana State authorities. There is no evidence in the file indicating that Dr. Kouns has regained authority to handle controlled substances in the State of Alabama.

In addition, the Administrator finds substantial evidence in the investigative file that Dr. Kouns' license to practice medicine in Ohio expired September 30, 1998, due to non-payment of renewal fees, and as of this date, there is no evidence in the investigative file to conclude that his Ohio medical license has been reinstated.

Therefore, the Administrator concludes that Dr. Kouns is not currently licensed or authorized to handle controlled substances in either Alabama, Indiana, or Ohio.

The DEA does not have the statutory authority pursuant to the Controlled Substances Act to issue or to maintain a registration if the applicant or registrant is without state authority to handle controlled substances in the state in which he or she practices. See 21 U.S.C. 823(f), and 824(a)(3). This prerequisite has been consistently upheld in prior DEA cases. See Graham Travers Schuler, M.D., 65 FR 50,570 (2000); Romeo J. Perez, M.D., 62 FR 16,193 (1997); Demetris A. Green, M.D, 61 FR 60,728 (1996); Dominick A. Ricci, M.D., 58 FR 51,104 (1993).

In the instant case, the Administrator finds the Government has presented evidence demonstrating that Dr. Kouns is not authorized to practice medicine or to handle controlled substances in Indiana, the jurisdiction where Dr. Kouns' DEA Certificate of Registration is issued, nor to practice medicine in Alabama, the jurisdiction where Dr. Kouns seeks to have his DEA Certificate of Registration modified, nor in Ohio, where his State medical license has expired. Therefore, the Administrator concludes that Dr. Kouns is also not authorized to handle controlled substances in Alabama, Indiana, or Ohio.

Accordingly, the Administrator of the Drug Enforcement Administration, pursuant to the authority vested in him by 21 U.S.C. 823 and 824 and 28 CFR 0.100(b) and 0.104, hereby orders that the DEA Certificate of Registration AK8923496 previously issued to George Samuel Kouns, D.O., be, and it hereby is, revoked. The Administrator hereby further orders that any pending applications for renewal or modification of said registration be, and hereby are, denied. This order is effective November 19, 2001.

Dated: October 10, 2001.
Asa Hutchinson,
Administrator.

[FR Doc. 01-26190 Filed 10-17-01; 8:45 am]

BILLING CODE 4410-09-M